DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project

Effective Dissemination of Mentoring and Family Strengthening Programs, Cross-Site Evaluation—New—The basis for the current cross-site evaluation originates from two previous efforts funded by SAMHSA's Center for Substance Abuse Prevention (CSAP) aimed at providing prevention services for high-risk youth: (1) Project Youth Connect—Mentoring and (2) Parent and Family Strengthening. The Project Youth Connect Program, funded in 1998, was designed to determine the effectiveness of a paid mentor/advocate model in improving life achievement outcomes for youth 9 to 15 years of age and their families. The Parent/Family Strengthening Program was designed to present science-based program models that would be selected for implementation within local communities. Funding for the parent/family strengthening program was distributed in two cohorts, with Cohort 1 receiving funding in 1998 and Cohort 2 receiving funding in 1999. Both cohorts were funded for a period of 24 months to address the gap between effective family-based prevention interventions and their availability in States, communities and other organizations. The goal of the current cross-site evaluation seeks to build upon these previous efforts by evaluating the impact of a three-year Mentoring and Family Strengthening prevention program targeting high-risk youth and their caregivers on reducing risk factors related to, and enhancing protective factors against, substance abuse.

Seven mentoring and nine family strengthening study sites were funded by SAMHSA/CSAP as of September 2001 to participate in this cross-site study. The primary objectives of the cross-site evaluation are to: (1) Assess the process of implementing program models with diverse target groups, (2) measure the effectiveness of specified intervention strategies such as cultural enrichment activities, educational and vocational resources, or computer-based curricula, and (3) determine the success of the Mentoring and Family Strengthening Programs in delaying, preventing, and/or reducing the use of alcohol, tobacco, and other drugs (ATOD) among youth and caregivers at risk for such behaviors. Conducting this evaluation will assist SAMHSA/CSAP in promoting and disseminating optimally effective prevention programs.

The CSAP GPRA Adult and Youth questionnaires, which have been approved by OMB (OMB No. 0930-0208) for use in all CSAP evaluation studies, will be used to measure ATOD use and risk factors associated with ATOD abuse among program participants and comparison subjects. Scales from the CSAP Core Measures list (OMB No. 0930-0230) and the CSAP National Youth Survey (OMB No. 0930-0178) will be used to measure other important risk and protective factors. The cross-site instrument (containing CSAP GPRA, scales from the CSAP Core Measures list, and scales from the CSAP National Youth Survey) will be augmented with additional scales in order to measure other important risk factors such as family conflict and parental stress. Protective factors that serve to guard against ATOD abuse include educational aspirations, school connectedness, and family cohesion. Data will also be gathered from program reports using a “dosage form” that will document services provided to youth and their adult caregivers.

The evaluation data will be collected through self-report questionnaires administered to program and comparison youth and adults, and to Mentors at the Mentoring Study Sites. Each Mentor, youth and adult in the intervention and comparison group will complete questionnaires at three different times: (1) Baseline, (2) program exit and (3) 6-month follow up. The dosage form will be completed by staff on a weekly basis for program youth and adults only.

Sample size, respondent burden, and intrusiveness have been minimized to be consistent with the cross-site evaluation objectives. Procedures are employed to safeguard the privacy and confidentiality of participants. Every effort has been made to coordinate cross-site data collection with local data collection efforts in order to minimize respondent burden. Pilot tests assisted in controlling burden and ensuring the user-relevance of questions.

Evaluation results will have significant implications for the substance abuse prevention field, the allocation of grant funds, and evaluation activities conducted by multiple Federal, state, and local government agencies. Results will be used to develop federal policy in support of SAMHSA/CSAP program initiatives, inform the public of lessons learned and findings, improve existing programs, and promote replication and dissemination of effective prevention strategies.

The following table shows the estimated annualized burden for data collection.

Response type | Number of respondents | Responses/respondent | Average burden/response (hrs.) | Average annual burden hrs.
Youth (intervention and comparison) | 2,50 | 1 | 1 | 2,500
Adults (intervention and comparison) | 2,500 | 1 | 1 | 2,500
Mentors | 40 | 1 | 1 | 40
Weekly Dosage Form—Family Strengthening Staff | 46 | 40 | .083 | 153
Weekly Dosage Form—paid mentors | 21 | 9 | .167 | 32
Weekly Dosage Form—volunteer mentors | 100 | 2 | .083 | 17
Total | 5,167 |  |  | 5,242

Send comments to Nancy Pearce, SAMHSA Reports Clearance Officer, Room 16-105, Parklawn Building, 5600 Fishers Lane, Rockville, MD 20857. Written comments should be received within 60 days of this notice.

Dated: June 17, 2002.
Richard Kopanda,
Executive Officer, Substance Abuse and Mental Health Administration.

[FR Doc. 02-15830 Filed 6-21-02; 8:45 am]

BILLING CODE 4162-20-P